ENVIRONMENTAL PROTECTION AGENCY
[OECA-2003-0029; FRL-7615-9]
Agency Information Collection Activities; Submission for OMB Review and Approval; Comment Request; NESHAP for Mineral Wool Production, EPA ICR Number 1799.03, OMB Number 2060-0362

AGENCY:
Environmental Protection Agency (EPA).

ACTION:
Notice.

SUMMARY:

In compliance with the Paperwork Reduction Act (44 U.S.C. 3501 et seq.), this document announces that an Information Collection Request (ICR) has been forwarded to the Office of Management and Budget (OMB) for review and approval. This is a request to renew an existing approved collection. This ICR is scheduled to expire on January 31, 2004. Under OMB regulations, the Agency may continue to conduct or sponsor the collection of information while this submission is pending at OMB. This ICR describes the nature of the information collection and its estimated burden and cost.

DATES:
Additional comments may be submitted on or before March 1, 2004.

ADDRESSES:

Submit your comments, referencing docket ID number OECA-2003-0029, to (1) EPA online using EDOCKET (our preferred method), by email to docket.oeca@epa.gov, or by mail to: EPA Docket Center (EPA/DC), Enforcement and Compliance Docket and Information Center, Mail Code 2201T, 1200 Pennsylvania Avenue, NW., Washington, DC 20460, and (2) OMB at: Office of Information and Regulatory Affairs, Office of Management and Budget (OMB), Attention: Desk Officer for EPA, 725 17th Street, NW., Washington, DC 20503.

FOR FURTHER INFORMATION CONTACT:

Gregory Fried, Compliance Assessment and Media Programs Division, Office of Compliance, Mail Code 2223A, Environmental Protection Agency, 1200 Pennsylvania Avenue, NW., Washington, DC 20460; telephone number: (202) 564-7016; fax number: (202) 564-0050; e-mail address: fried.gregory@epa.gov.

SUPPLEMENTARY INFORMATION:
EPA has submitted the following ICR to OMB for review and approval according to the procedures prescribed in 5 CFR 1320.12. On May 19, 2003 (68 FR 27059), EPA sought comments on this ICR pursuant to 5 CFR 1320.8(d). EPA received no relevant comments.
EPA has established a public docket for this ICR under Docket ID No. OECA-2003-0029, which is available for public viewing at the Enforcement and Compliance Docket and Information Center in the EPA Docket Center (EPA/DC), EPA West, Room B102, 1301 Constitution Ave., NW., Washington, DC. The EPA Docket Center Public Reading Room is open from 8:30 a.m. to 4:30 p.m., Monday through Friday, excluding legal holidays. The telephone number for the Reading Room is (202) 566-1744, and the telephone number for the Enforcement and Compliance Docket and Information Center is: (202) 566-1752. An electronic version of the public docket is available through EPA Dockets (EDOCKET) at http://www.epa.gov/edocket. Use EDOCKET to submit or view public comments, access the index listing of the contents of the public docket, and to access those documents in the public docket that are available electronically. When in the system, select “search,” then key in the docket ID number identified above.

Any comments related to this ICR should be submitted to EPA and OMB within 30 days of this notice. EPA's policy is that public comments, whether submitted electronically or in paper, will be made available for public viewing in EDOCKET as EPA receives them and without change, unless the comment contains copyrighted material, Confidential Business Information (CBI), or other information whose public disclosure is restricted by statute. When EPA identifies a comment containing copyrighted material, EPA will provide a reference to that material in the version of the comment that is placed in EDOCKET. The entire printed comment, including the copyrighted material, will be available in the public docket. Although identified as an item in the official docket, information claimed as CBI, or whose disclosure is otherwise restricted by statute, is not included in the official public docket, and will not be available for public viewing in EDOCKET. For further information about the electronic docket, see EPA's Federal Register notice describing the electronic docket at 67 FR 38102 (May 31, 2002), or go to http://www.epa.gov/edocket.

Title: NESHAP for Mineral Wool Production (40 CFR Part 63, Subpart DDD).

Abstract: The Administrator has judged that particulate matter (PM) and hazardous air pollutant (HAP) emissions from mineral wool production plants cause or contribute to air pollution that may reasonably be anticipated to endanger public health or welfare. Owners/operators of mineral wool production plants subject to NESHAP for Mineral Wool Production (40 CFR part 63, subpart DDD) must provide notifications to EPA of construction, modification, startups, shut downs, date and results of initial performance tests and provide semiannual reports of excess emissions. Owners/operators of mineral wool production plants are required to install fabric filter bag leak detection systems and then initiate corrective action procedures in the event of an operating problem. Owners/operators of mineral wool production plants subject to NESHAP subpart DDD must also continuously monitor and record: (1) The operating temperature of each thermal incinerator; (2) cupola production (melt) rate; and (3) for each curing oven, the formaldehyde content of each binder formulation used to manufacture bonded products.
In order to ensure compliance with the standards promulgated to protect public health, adequate reporting and recordkeeping are necessary. In the absence of such information, enforcement personnel would be unable to determine whether the standards are being met on a continuous basis, as required by the Clean Air Act.
An agency may not conduct or sponsor, and a person is not required to respond to, a collection of information unless it displays a currently valid OMB Control Number. The OMB Control Numbers for EPA's regulations in 40 CFR are listed in 40 CFR part 9, and are identified on the form and/or instrument, if applicable.

Burden Statement: The annual public reporting and recordkeeping burden for this collection of information is estimated to average 126 hours per response. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

Respondents/Affected Entities: Mineral Wool Production Facilities.

Estimated Number of Respondents: 12.

Frequency of Response: Initial and semiannual.

Estimated Total Annual Hour Burden: 3,018 hours.

Estimated Total Annual Costs: $199,906 which includes $0 annualized capital/startup costs, $9,000 annual O&M costs, and $190,906 labor costs.

Changes in the Estimates: There is decrease of 2,761 hours in the total estimated burden currently identified in the OMB Inventory of Approved ICR Burdens. This decrease is due to the fact that the compliance date of June 2, 2002, has passed and all existing facilities have already submitted all required notifications and completed all required performance testing. Therefore, the remaining burden on the industry is primarily the operation and maintenance of the control equipment (e.g., baghouse leak detection systems) and the semiannual reporting.

Dated: January 22, 2004.
Doreen Sterling,
Acting Director, Collection Strategies Division.

[FR Doc. 04-1975 Filed 1-29-04; 8:45 am]
BILLING CODE 6560-50-P